DEPARTMENT OF HEALTH AND HUMAN SERVICES

Centers for Disease Control and Prevention

Disease, Disability, and Injury Prevention and Control Special Emphasis Panel (SEP): Field Trials to Efficacy of Natural Products for the Control of the Tick Vectors of Lyme Disease Spirochetes, Program Announcement (PA) CK08-001; Evaluation of Reservoir-Targeted Vaccine Formulations To Prevent Enzootic Transmission of Borrelia Burgdorferi (Lyme Borreliosis), PA CK08-002

Correction: This notice was published in the Federal Register on December 19, 2007, Volume 72, Number 243, page 71913-71914. The title and place should read as follows:

Disease, Disability, and Injury Prevention and Control Special Emphasis Panel (SEP): Field Trials to Efficacy of Natural Products for the Control of the Tick Vectors of Lyme Disease Spirochetes, Program Announcement (PA) CK08-001; Evaluation of Reservoir-Targeted Vaccine Formulations To Prevent Enzootic Transmission of Borrelia Burgdorferi (Lyme Borreliosis), PA CK08-002.

Place: Teleconference.

The Director, Management Analysis and Services Office, has been delegated the authority to sign Federal Register notices pertaining to announcements of meetings and other committee management activities, for both CDC and the Agency for Toxic Substances and Disease Registry.

Dated: January 8, 2008.
Elaine L. Baker,
Director, Management Analysis and Services Office, Centers for Disease Control and Prevention.

[FR Doc. E8-480 Filed 1-11-08; 8:45 am]

BILLING CODE 4163-18-P